DEPARTMENT OF COMMERCE

National Oceanic and Atmospheric Administration

RIN 0648-XV40

Marine Mammals; File No. 14118

AGENCY: National Marine Fisheries Service (NMFS), National Oceanic and Atmospheric Administration (NOAA), Commerce.

ACTION: Notice; issuance of permit.

SUMMARY: Notice is hereby given that a permit has been issued to Becky Woodward, Ph.D., University of Maine, 9500 Old Retriever Trail, Charles City, Virginia 23030 to conduct research on Eastern gray (Eschrichtius robustus), minke (Balaenoptera acutorostrata), and short- and long-finned pilot whales (Globicephala spp.) and endangered humpback (Megaptera novaeangliae) whales. Fin (B. physalus) and sei (B. borealis) whales may be incidentally harassed.

ADDRESSES: The permit and related documents are available for review upon written request or by appointment in the following offices: See SUPPLEMENTARY INFORMATION.

FOR FURTHER INFORMATION CONTACT: Kristy Beard or Carrie Hubard, (301) 427-8401.

SUPPLEMENTARY INFORMATION: On March 23, 2010, notice was published in the Federal Register (75 FR 13730) that a request for a permit to conduct research on the species identified above had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes takes during research involving tagging using a peduncle belt type attachment mechanism, photo-identification, behavioral observations, tracking and monitoring, passive acoustics, photography and video both above and under water, and collection of sloughed skin. Research will occur in the North Atlantic from Maine to Texas, and in the North Pacific from Alaska to California, including Hawaii. Multiple research objectives would be addressed using data from the tags, including: (1) Long-term movement and habitat use studies using satellite/GPS/depth tags, (2) medium-term acoustic studies using an audio recording package to examine transmitted and received sound, and (3) extended fine-scale behavioral ecology studies using multi-sensor data recording packages. The permit is valid for five years from the date of issuance.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on April 27, 2012.

As required by the ESA, issuance of this permit was based on a finding that such permit: (1) Was applied for in good faith; (2) will not operate to the disadvantage of such endangered species; and (3) is consistent with the purposes and policies set forth in section 2 of the ESA.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Pacific Islands Region, NMFS, 1601 Kapiolani Blvd., Rm 1110, Honolulu, HI 96814-4700; phone (808) 944-2200; fax (808) 973-2941;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: May 1, 2012.
Tammy C. Adams,
Acting Chief, Permits and Conservation Division, Office of Protected Resources, National Marine Fisheries Service.

[FR Doc. 2012-10846 Filed 5-3-12; 8:45 am]

BILLING CODE 3510-22-P